DEPARTMENT OF LABOR

Occupational Safety and Health Administration

29 CFR Part 1926

[Docket No. OSHA-2007-0026]

RIN 1218-AB47

Confined Spaces in Construction; Approval of Collections of Information

AGENCY: Occupational Safety and Health Administration (OSHA), Department of Labor.

ACTION: Final rule.

SUMMARY: This rule is a technical amendment revising OSHA's regulations to reflect the approval by the Office of Management and Budget (OMB) of the collections of information contained in OSHA's standard for Confined Spaces in Construction.

DATES: Effective August 12, 2016.

FOR FURTHER INFORMATION CONTACT: Todd Owen, OSHA, Directorate of Standards and Guidance, Room N-3609, U.S. Department of Labor, 200 Constitution Avenue NW., Washington, DC 20210; telephone (202) 693-2222.

SUPPLEMENTARY INFORMATION: OSHA published a final rule for Confined Spaces in Construction on May 4, 2015 (80 FR 25365) to provide new protections to employees working in confined spaces in construction. This new subpart replaced OSHA's general training requirement for work in confined spaces (29 CFR 1926.21(b)(6)) with a comprehensive standard. The new standard includes a permit program designed to protect employees from exposure to many hazards associated with work in confined spaces, including atmospheric and physical hazards. Those requirements contained collections of information approved by OMB under control number 1218-0258, which OSHA publicized in the Federal Register document announcing the new rule (see 80 FR 22514-22517). This technical amendment codifies the OMB control number for the Confined Spaces in Construction standard into § 1926.5, which is the central section in which OSHA displays its approved collections under the Paperwork Reduction Act.

Additional opportunity for public comment on this rule is unnecessary because the public has already had the opportunity to comment on the collections of information and OMB has approved them. This revision of § 1926.5 is a purely technical step to increase public awareness of OMB's approval of the collections of information.

Authority and Signature

David Michaels, Ph.D., MPH, Assistant Secretary of Labor for Occupational Safety and Health, directed the preparation of this notice. The authority for this notice is the Paperwork Reduction Act of 1995 (44 U.S.C. 3506 et seq.) and Secretary of Labor's Order 1-2012 (77 FR 3912 (1/25/2012)).

List of Subjects in 29 CFR Part 1926

Occupational safety and health, Reporting and recordkeeping requirements.

Signed at Washington, DC, on August 2, 2016.
David Michaels,
Assistant Secretary of Labor for Occupational Safety and Health.

For the reasons stated in the preamble in this document, the Occupational Safety and Health Administration amends 29 CFR part 1926 as follows:

PART 1926—SAFETY AND HEALTH REGULATIONS FOR CONSTRUCTION

Subpart A—General

1. The authority citation for part 1926, subpart A, continues to read as follows:

Authority: 40 U.S.C. 3701 et seq.; 29 U.S.C. 653, 655, 657; Secretary of Labor's Order No. 12-71 (36 FR 8754), 8-76 (41 FR 25059), 9-83 (48 FR 35736), 1-90 (55 FR 9033), 6-96 (62 FR 111), 3-2000 (65 FR 50017), 5-2002 (67 FR 65008), or 5-2007 (72 FR 31160), 5-2007 (72 FR 31160), 4-2010 (75 FR 55355), or 1-2012 (77 FR 3912), as applicable; and 29 CFR part 1911.

2. Amend § 1926.5 by adding to the table, in the proper numerical sequence, the entries for “1926.1203,” “1926.1204,” “1926.1205,” “1926.1206,” “1926.1207,” “1926.1208,” “1926.1209,” “1926.1210,” “1926.1211,” “1926.1212,” and “1926.1213” to read as follows:

§ 1926.5 OMB control numbers under the Paperwork Reduction Act.

* * * * *

29 CFR Citation | OMB Control No.
| * * * * *
1926.1203 | 1218-0258
1926.1204 | 1218-0258
1926.1205 | 1218-0258
1926.1206 | 1218-0258
1926.1207 | 1218-0258
1926.1208 | 1218-0258
1926.1209 | 1218-0258
1926.1210 | 1218-0258
1926.1211 | 1218-0258
1926.1212 | 1218-0258
1926.1213 | 1218-0258
* * * * *

[FR Doc. 2016-18965 Filed 8-11-16; 8:45 am]

BILLING CODE 4510-26-P